DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of March 23, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
City and County of San Francisco, California and Incorporated Areas
Docket No.: FEMA-B-1604 and FEMA-B-1961
City and County of San Francisco | Office of the City Administrator, City Hall, Room 362, 1 Dr. Carlton B. Goodlett Place, San Francisco, CA 94102.
Scott County, Iowa and Incorporated Areas
Docket No.: FEMA-B-1925
City of Bettendorf | City Hall, 1609 State Street, Bettendorf, IA 52722.
City of Blue Grass | City Hall, 114 North Mississippi Street, Blue Grass, IA 52726.
City of Buffalo | City Hall, 329 Dodge Street, Buffalo, IA 52728.
City of Davenport | City Hall, 226 West 4th Street, Davenport, IA 52801.
City of Dixon | City Hall, 610 Davenport Street, Dixon, IA 52745.
City of Donahue | City Hall, 106 1st Avenue, Donahue, IA 52746.
City of Eldridge | City Hall, 305 North 3rd Street, Eldridge, IA 52748.
City of Le Claire | City Hall, 325 Wisconsin Street, Le Claire, IA 52753.
City of Long Grove | City Hall, 119 South 1st Street, Long Grove, IA 52756.
City of McCausland | City Hall, 305 North Salina Street, McCausland, IA 52758.
City of Panorama Park | City Hall, 120 Short Street, Panorama Park, IA 52722.
City of Princeton | City Hall, 311 3rd Street, Princeton, IA 52768.
City of Riverdale | City Hall, 110 Manor Drive, Riverdale, IA 52722.
City of Walcott | City Hall, 128 West Lincoln Street, Walcott, IA 52773.
Unincorporated Areas of Scott County | Scott County Administrative Center, 600 West 4th Street, Davenport, IA 52801.
Carroll County, Kentucky and Incorporated Areas
Docket No.: FEMA-B-1918
City of Prestonville | Carroll County Emergency Operations Center, 829 Polk Street, Carrollton, Kentucky 41008.
Unincorporated Areas of Carroll County | Carroll County Emergency Operations Center, 829 Polk Street, Carrollton, Kentucky 41008.
Henry County, Kentucky and Incorporated Areas
Docket No.: FEMA-B-1918
Unincorporated Areas of Henry County | Henry County Planning and Zoning Department, 19 South Property Road, New Castle, Kentucky 40050.
Oldham County, Kentucky and Incorporated Areas
Docket No.: FEMA-B-1918
City of Crestwood | Oldham County Planning and Zoning Department, 100 West Jefferson Street, La Grange, KY 40031.
City of La Grange | Oldham County Planning and Zoning Department, 100 West Jefferson Street, La Grange, KY 40031.
City of Orchard Grass Hills | Oldham County Planning and Zoning Department, 100 West Jefferson Street, La Grange, KY 40031.
Unincorporated Areas of Oldham County | Oldham County Planning and Zoning Department, 100 West Jefferson Street, La Grange, KY 40031.
Trimble County, Kentucky and Incorporated Areas
Docket No.: FEMA-B-1918
City of Milton | City Hall, 10179 Highway 421 North, Milton, KY 40045.
Unincorporated Areas of Trimble County | Trimble County Office of the Executive County Judge, 123 Church Street, Bedford, KY 40006.
Benzie County, Michigan (All Jurisdictions)
Docket No.: FEMA-B-1972
City of Frankfort | City Hall, 412 Main Street, Frankfort, MI 49635.
Township of Benzonia | Township Hall, 1020 Michigan Avenue, Benzonia, MI 49616.
Township of Blaine | Blaine Township Hall, 4760 Herring Grove Road, Arcadia, MI 49613.
Township of Crystal Lake | Crystal Lake Township Hall, 1651 Frankfort Highway, Frankfort, MI 49635.
Township of Gilmore | Gilmore Township Clerk's Office, 1246 Grace Road, Elberta, MI 49635.
Township of Lake | Lake Township Hall, 5153 Scenic Highway, Honor, MI 49640.
Township of Platte | Platte Township Hall, 11935 Fowler Road, Honor, MI 49640.
Village of Beulah | Village Hall, 7228 Commercial Avenue, Beulah, MI 49617.
Village of Elberta | Village Hall, 151 Pearson Street, Elberta, MI 49628.
Benzie County, Michigan (All Jurisdictions)
Docket No.: FEMA-B-1972
City of Frankfort | City Hall, 412 Main Street, Frankfort, MI 49635.
Township of Benzonia | Township Hall, 1020 Michigan Avenue, Benzonia, MI 49616.
Township of Blaine | Blaine Township Hall, 4760 Herring Grove Road, Arcadia, MI 49613.
Township of Crystal Lake | Crystal Lake Township Hall, 1651 Frankfort Highway, Frankfort, MI 49635.
Township of Gilmore | Gilmore Township Clerk's Office, 1246 Grace Road, Elberta, MI 49635.
Township of Lake | Lake Township Hall, 5153 Scenic Highway, Honor, MI 49640.
Township of Platte | Platte Township Hall, 11935 Fowler Road, Honor, MI 49640.
Village of Beulah | Village Hall, 7228 Commercial Avenue, Beulah, MI 49617.
Village of Elberta | Village Hall, 151 Pearson Street, Elberta, MI 49628.
Marshall County, Minnesota and Incorporated Areas
Docket No.: FEMA-B-1529 and B-1925
City of Alvarado | City Hall, 155 Marshall Street, Alvarado, MN 56710.
City of Argyle | City Hall, 701 Pacific Avenue, Argyle, MN 56713.
City of Grygla | Civic Building, 219 West Beltrami Street, Grygla, MN 56727.
City of Middle River | City Hall, 250 Hill Avenue, Middle River, MN 56737.
City of Newfolden | City Office, 145 East First Street, Newfolden, MN 56738.
City of Oslo | City Hall, 107 Third Avenue East, Oslo, MN 56744.
City of Stephen | City Clerk's Office, 413 5th Street, Suite B, Stephen, MN 56757.
City of Warren | City Hall, 120 East Bridge Avenue, Warren, MN 56762.
Unincorporated Areas of Marshall County | Marshall County Courthouse, 208 East Colvin Avenue, Warren, MN 56762.
Bolivar County, Mississippi and Incorporated Areas
Docket No.: FEMA-B-1946
Town of Renova | City Hall, 1339 Old Highway 61, Renova, MS 38732.
Unincorporated Areas of Bolivar County | Bolivar County Courthouse Administrator's Office, 200 South Court Street, Cleveland, MS 38732.
Humphreys County, Mississippi and Incorporated Areas
Docket No.: FEMA-B-1946
Town of Isola | Town Hall, 203 Julia Street, Isola, MS 38754.
Unincorporated Areas of Humphreys County | Humphreys County Courthouse, Tax Assessor's Office, 102 Castleman Street, Belzoni, MS 39038.
Panola County, Mississippi and Incorporated Areas
Docket No.: FEMA-B-1946
City of Batesville | City Hall, 103 College Street, Batesville, MS 38606.
City of Sardis | City Hall, 114 West Lee Street, Sardis, MS 38666.
Unincorporated Areas of Panola County | Panola County Land Development Office, 245 Eureka Street, Batesville, MS 38606.
Sharkey County, Mississippi and Incorporated Areas
Docket No.: FEMA-B-1946
Unincorporated Areas of Sharkey County | Sharkey County Courthouse, 120 Locust Street, Rolling Fork, MS 39159.
Sunflower County, Mississippi and Incorporated Areas
Docket No.: FEMA-B-1946
City of Indianola | City Hall, Inspection Department, 101 Front Street, Indianola, MS 38751.
Town of Sunflower | Town Hall, 103 East Quiver Street, Sunflower, MS 38778.
Unincorporated Areas of Sunflower County | Sunflower County Courthouse, EMA/Floodplain Office, 200 Main Street, Indianola, MS 38751.
Tallahatchie County, Mississippi and Incorporated Areas
Docket No.: FEMA-B-1946
City of Charleston | City Hall, 26 South Square Street, Charleston, MS 38921.
Unincorporated Areas of Tallhatchie County | Tallahatchie County Courthouse, 1 Court Square, Charleston, MS 38921.
Washington County, Mississippi and Incorporated Areas
Docket No.: FEMA-B-1946
Unincorporated Areas of Washington County | Washington County Planning Department, 900 Washington Avenue, Greenville, MS 38701.
Yalobusha County, Mississippi and Incorporated Areas
Docket No.: FEMA-B-1946
Town of Oakland | City Hall, 13863 Hickory Street, Oakland, MS 38948.
Unincorporated Areas of Yalobusha County | Yalobusha County Courthouse, 201 Blackmur Drive, Water Valley, MS 38965.
Douglas County, Oregon and Incorporated Areas
Docket No.: FEMA-B-1914
City of Reedsport | City Hall, 451 Winchester Avenue, Reedsport, OR 97467.
Unincorporated Areas of Douglas County | Douglas County Courthouse, Justice Building, 1036 Southeast Douglas Avenue, Room 106, Roseburg, OR 97470.
Grant County, Oregon and Incorporated Areas
Docket No.: FEMA-B-1979
City of Seneca | City Hall, 106 A Avenue, Seneca, Oregon 97873.
Unincorporated Areas of Grant County | Grant County Planning Department, 201 South Humbolt Street, Suite 170, Canyon City, Oregon 97820.
Beaufort County, South Carolina and Incorporated Areas
Docket No.: FEMA-B-1814
City of Beaufort | City Hall, 1911 Boundary Street, Beaufort, SC 29902.
City of Hardeeville | City Hall, 205 Main Street, Hardeeville, SC 29927.
Town of Bluffton | Town Hall, 20 Bridge Street, Bluffton, SC 29910.
Town of Hilton Head Island | Town Hall, 1 Town Center Court, Hilton Head Island, SC 29928.
Town of Port Royal | Town Hall, 700 Paris Avenue, Port Royal, SC 29935.
Town of Yemassee | Town Hall, 101 Town Circle, Yemassee, SC 29945.
Unincorporated Areas of Beaufort County | Beaufort County Building Codes Department, 100 Ribaut Road, Beaufort, SC 29902.
Summit County, Utah and Incorporated Areas
Docket No.: FEMA-B-1718 and FEMA-B-2004
City of Coalville | City Hall, 10 North Main Street, Coalville, UT 84017.
City of Kamas | City Hall, 170 North Main Street, Kamas, UT 84036.
City of Oakley | City Hall, 960 West Center Street, Oakley, UT 84055.
City of Park City | City Hall, 445 Marsac Avenue, Park City, UT 84060.
Unincorporated Areas of Summit County | Summit County Courthouse, 60 North Main Street, Coalville, UT 84017.
Greene County, Virginia and Incorporated Areas
Docket No.: FEMA-B-1934
Town of Stanardsville | Town Hall, 19 Celt Road, Stanardsville, VA 22973.
Unincorporated Areas of Greene County | Greene County Administration Building, 40 Celt Road, Stanardsville, VA 22973.

[FR Doc. 2020-26056 Filed 11-24-20; 8:45 am]

BILLING CODE 9110-12-P